DEPARTMENT OF AGRICULTURE

Food Safety and Inspection Service

[Docket No. FSIS-2022-0010]

Elimination of Deadline for Partial Refunds of Overtime and Holiday Inspection Fees for Small and Very Small Establishments

AGENCY: Food Safety and Inspection Service, USDA.

ACTION: Notice.

SUMMARY: On July 15, 2021, the Food Safety and Inspection Service (FSIS) announced in the Federal Register that, while funding is available, it will reduce overtime and holiday inspection fees for small and very small establishments. In the notice, FSIS stated that small and very small establishments need to submit an Overtime/Holiday Rate Reduction form to request an overtime or holiday inspection fee reduction. FSIS also explained that establishments that submit their forms by March 11, 2022, and that qualify for a fee reduction, would receive a partial refund for overtime and holiday inspection fees paid since October 11, 2020, i.e., the first day of the pay period after the beginning of Fiscal Year 2021. FSIS is eliminating the March 11, 2022, deadline for partial refunds. Therefore, all establishments that qualify and submit their forms will be eligible to receive the partial refund for overtime and holiday fees paid since October 11, 2020, while funding is available.

ADDRESSES: Small and very small establishments should submit their completed forms to the FSIS inspection personnel assigned to their establishment or, alternatively, email the completed form to the appropriate FSIS District Office, “Attention Grant Curator.” Contact information for the FSIS District Offices, including email addresses, is available at: https://www.fsis.usda.gov/contactus/fsis-offices/office-field-operations-ofo.

FOR FURTHER INFORMATION CONTACT: Rachel Edelstein, Assistant Administrator, Office of Policy and Program Development by telephone at (202) 205-0495.

For billing issues and to request refunds contact the Financial Service Center Customer Contact Center: (515) 334-2000 option 1 or email at fsis.billing@usda.gov.

SUPPLEMENTARY INFORMATION: In the American Rescue Plan Act of 2021 (Pub. L. 117-2, 135 Stat. 242), Congress provided FSIS with $100 million in budget authority to reduce the costs of overtime inspection for federally-inspected small and very small meat, poultry, and egg products establishments. Congress provided a period of availability up until fiscal year 2030, which ends September 30, 2030. On July 15, 2021, FSIS announced in the Federal Register that it implemented this provision by reducing overtime and holiday inspection fees for small establishments by 30 percent and very small establishments by 75 percent (86 FR 37276). FSIS also announced that it developed an Overtime/Holiday Rate Reduction form that official establishments must submit to request an overtime or holiday inspection fee reduction (86 FR 37276). The form is available on FSIS' website at: https://www.fsis.usda.gov/sites/default/files/2021-07/FSIS-5200-16-OvertimeHolidayRateReductionForm_v6-4re508.pdf.

While in the July 15 Federal Register notice (86 FR 37276), FSIS stated that establishments must submit their forms by March 11, 2022, to receive a partial refund back to October 11, 2020, the Agency has decided to eliminate the deadline for establishments to submit their forms to qualify for a partial refund for overtime and holiday inspection fees paid since October 11, 2020. Therefore, all establishments that qualify and submit their forms will be eligible to receive the partial refund for overtime and holiday fees paid since October 11, 2020, while funding is available.

Small and very small establishments should submit their completed forms to the FSIS inspection personnel assigned to their establishment or, alternatively, email the completed form to the appropriate FSIS District Office, “Attention Grant Curator.”

Additional Public Notification

Public awareness of all segments of rulemaking and policy development is important. Consequently, FSIS will announce this Federal Register publication on-line through the FSIS web page located at: https://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at https://www.usda.gov/oascr/how-to-file-a-program-discrimination-complaint and at any USDA office or write a letter addressed to USDA and provide in the letter all of the information requested in the form. To request a copy of the complaint form, call (866) 632-9992. Submit your completed form or letter to USDA by: (1) mail: U.S. Department of Agriculture, Office of the Assistant Secretary for Civil Rights, 1400 Independence Avenue SW, Washington, DC 20250-9410; (2) fax: (202) 690-7442; or (3) email: program.intake@usda.gov. USDA is an equal opportunity provider, employer, and lender.

Paul Kiecker,
Administrator.

[FR Doc. 2022-12363 Filed 6-8-22; 8:45 am]

BILLING CODE 3410-DM-P